FEDERAL ELECTION COMMISSION

Sunshine Act Meetings

TIME AND DATE: Wednesday, April 30, 2025, 10 a.m.

PLACE: Hybrid meeting: 1050 First Street NE, Washington, DC (12th floor) and virtual.

Note: If you would like to virtually access the meeting, see the instructions below.

STATUS: This meeting will be open to the public. To access the meeting virtually, go to the commission's website www.fec.gov and click on the banner to be taken to the meeting page.

MATTERS TO BE CONSIDERED:

Draft Advisory Opinion 2025-05: PoliticalMeetings.com

Draft Advisory Opinion 2025-07: Libertarian Party of Maryland, Libertarian Party of Maine, Libertarian Party of Idaho, and Libertarian Party of Vermont

Request for Commission Directive 69 Guidance (LRA 1219)

Office of General Counsel's Recommendations at the Initial Stage of the Enforcement Process (Pursuant to 52 U.S.C. 30109(a))

Election of Officer (Chair)

Management and Administrative Matters

ADDITIONAL INFORMATION: This meeting may be cancelled if the Commission is not open due to a funding lapse.

CONTACT PERSON FOR MORE INFORMATION: Myles Martin, Deputy Press Officer, Telephone: (202) 694-1221.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Laura E. Sinram,
Secretary and Clerk of the Commission.

[FR Doc. 2025-07311 Filed 4-23-25; 4:15 pm]

BILLING CODE 6715-01-P